DEPARTMENT OF THE INTERIOR

Bureau of Land Management

[WY-060-1320-EL, WYW172684]

Notice of Intent (NOI) To Prepare an Environmental Impact Statement (EIS) and Notice of Public Meeting on a Federal Coal Lease-by-Application (LBA) in the Decertified Powder River Federal Coal Production Region, Wyoming

AGENCY: Bureau of Land Management, Interior.

ACTION: Notice of intent and notice of public meeting.

SUMMARY: Pursuant to Section 102(2)(C) of the National Environmental Policy Act (NEPA) of 1969, as amended, the Bureau of Land Management (BLM), Casper Field Office announces its intent to prepare an EIS on the potential impacts of the application to lease a tract of Federal coal. The EIS will be called the Hay Creek II Coal EIS. Under the provisions of 43 Code of Federal Regulations (CFR) 3425.1, the BLM received the following application to lease a maintenance tract of Federal coal in Campbell County, Wyoming:

• Kiewit Mining Properties Inc. applied for a maintenance coal lease for approximately 1448.873 acres (approximately 148 million tons of recoverable coal) in a maintenance tract of Federal coal adjacent to the Buckskin Mine. The tract, which is referred to as the Hay Creek II Tract, has been assigned case number WYW172684.

DATES: This notice initiates the public scoping process. To provide the public with an opportunity to review the proposal and gain understanding of the coal leasing process, the BLM will host a meeting on January 31, 2008, at 7 p.m. at the Gillette College Presentation Hall, Room 120, 300 West Sinclair, Gillette, Wyoming. At the meeting, the public is invited to submit comments and resource information, plus identify issues or concerns to be considered in the coal LBA process. The BLM can best use public input if comments and resource information are submitted by March 29, 2008. The BLM will announce future public meetings and other opportunities to submit comments on this project at least 15 days prior to the events. Announcements will be made through local news media and the Casper Field Office's Web site, which is: http://frwebgate.access.gpo.gov/cgi-bin/leaving.cgi?from=leavingFR.html&log=linklog&to=http://www.blm.gov/wy/st/en/field_offices/Casper.html.

FOR FURTHER INFORMATION CONTACT: Teresa Johnson or Mike Karbs, BLM Casper Field Office, 2987 Prospector Drive, Casper, Wyoming 82604. Teresa Johnson or Mr. Karbs may also be reached at (307) 261-7600.

ADDRESSES: Please submit written comments or concerns to the BLM Casper Field Office, Attn: Teresa Johnson, 2987 Prospector Drive, Casper, Wyoming 82604. Written comments or resource information may also be hand-delivered to the BLM Casper Field Office or sent by facsimile to the attention of Teresa Johnson at (307) 261-7510. Comments may be sent electronically to casper_wymail@blm.gov. Please include “Buckskin Mine, Hay Creek II Coal EIS/Teresa Johnson” in the subject line. Members of the public may examine documents pertinent to this proposal by visiting the Casper Field Office during its business hours (7:45 a.m. to 4:30 p.m.), Monday through Friday, except holidays.

SUPPLEMENTARY INFORMATION: Kiewit Mining Properties, Inc. submitted an application on March 24, 2006, to lease a maintenance tract of Federal coal adjacent to the company's Buckskin Mine in Campbell County, Wyoming, which is operated by Buckskin Mining Company. A maintenance tract is a parcel of land containing Federal coal reserves that can be leased to maintain production at an existing mine. This tract is known as the Hay Creek II Tract. Consistent with Federal regulations under NEPA and the Minerals Leasing Act of 1920, as amended, the BLM must prepare an environmental analysis prior to holding a competitive Federal coal lease sale. The Powder River Regional Coal Team reviewed this LBA at a public meeting held on April 19, 2006, in Casper, Wyoming, and recommended that the BLM process it.

The Hay Creek II Tract application includes approximately 148 million tons of recoverable Federal coal underlying the following lands in Campbell County, Wyoming:

T. 52 N., R. 72 W., 6th P.M., Wyoming

Section 7: Lots 18 through 20;

Section 8: Lots 13 through 16;

Section 17: Lots 1 through 4, 5 (N½), 6 (N½), 7 (N½), and 8 (N½)

Section 18: Lots 5 through 7, 10, 11, 12 (N½, SW¼), 13 (W½), 14, 15, 18, 19, and 20 (W½);

Section 19: Lots 5 (W½), 6, 7, 10, 11, 12 (W½), 13 (W½), 14, 15, 17 through 19, and 20 (W½).

Containing 1448.873 acres, more or less.

Buckskin Mining Company proposes to mine the tract as a part of the Buckskin Mine. At the mining rate of 25 million tons per year, the coal included in the Hay Creek II Tract would extend the life of the Buckskin Mine by as many as 6 years.

Lands in the application contain private surface estate overlying the Federal coal.

The Buckskin Mine is operating under approved mining permits from the Land Quality and Air Quality Divisions of the Wyoming Department of Environmental Quality.

The Office of Surface Mining Reclamation and Enforcement (OSM) will be a cooperating agency in the preparation of the EIS. If the tract is leased to the applicant, the new lease must be incorporated into the existing mining and reclamation plan for the mine. Before the Federal coal in the tract can be mined the Secretary of the Interior must approve the revised Mineral Leasing Act (MLA) mining plan for Buckskin Mine. The OSM is the Federal agency that is responsible for recommending approval, approval with conditions, or disapproval of the revised MLA mining plan to the Office of the Secretary of the Interior. Other cooperating agencies may be identified during the scoping process.

The BLM will provide interested parties the opportunity to submit comments or relevant information or both. This information will help the BLM identify issues to be considered in preparing the Hay Creek II Coal EIS. Issues that have been identified in analyzing the impacts of previous Federal coal leasing actions in the Wyoming Powder River Basin (PRB) include the need for resolution of conflicts between existing and proposed oil and gas development and coal mining on the tract proposed for coal leasing; potential impacts to big game herds and hunting; potential impacts to Greater Sage-grouse; potential impacts to listed threatened and endangered species; potential health impacts related to blasting operations conducted by the mine to remove overburden and coal; the need to consider the cumulative impacts of coal leasing decisions combined with other existing and proposed development in the Wyoming PRB; and potential site-specific and cumulative impacts on air and water quality.

Your response is important and will be considered in the EIS process. If you do respond, we will keep you informed of the availability of environmental documents that address impacts that might occur from this proposal. Before including your address, phone number, e-mail address, or other personal identifying information in your comment, you should be aware that your entire comment—including your personal identifying information—may be made publicly available at any time. While you can ask us in your comment to withhold your personal identifying information from public review, we cannot guarantee that we will be able to do so.

Dated: November 5, 2007.
Alan Rabinoff,
Acting State Director.

[FR Doc. E7-24428 Filed 12-20-07; 8:45 am]

BILLING CODE 4310-22-P